DEPARTMENT OF ENERGY

Amended Notice of Intent to Modify the Scope of the Surplus Plutonium Disposition Supplemental Environmental Impact Statement and Conduct Additional Public Scoping

AGENCY: U.S. Department of Energy, National Nuclear Security Administration.

ACTION: Amended Notice of Intent.

SUMMARY: The U.S. Department of Energy (DOE) announces its intent to modify the scope of the Surplus Plutonium Disposition Supplemental Environmental Impact Statement (SPD Supplemental EIS, DOE/EIS-0283-S2) and to conduct additional public scoping. DOE issued its Notice of Intent ¹ (NOI) to prepare the SPD Supplemental EIS on March 28, 2007 (72 FR 14543). DOE now intends to revise the scope of the SPD Supplemental EIS to refine the quantity and types of surplus weapons-usable plutonium material, evaluate additional alternatives, and no longer consider in detail one alternative identified in the NOI (ceramic can-in-canister immobilization). Also, DOE had identified a glass can-in-canister immobilization approach as its preferred alternative in the NOI; DOE will continue to evaluate that alternative but currently does not have a preferred alternative.

¹ The NOI identified the title of the document as the Supplemental Environmental Impact Statement for Surplus Plutonium Disposition at the Savannah River Site.

DOE now proposes to analyze a new alternative to install the capability in K-Area at the Savannah River Site (SRS) to, among other things, disassemble nuclear weapons pits (a weapons component) and convert the plutonium metal to an oxide form for fabrication into mixed uranium-plutonium oxide (MOX) reactor fuel in the Mixed Oxide Fuel Fabrication Facility (MFFF); under this alternative, DOE would not build the Pit Disassembly and Conversion Facility (PDCF), which DOE previously decided to construct. This K-Area project also would provide capabilities needed to prepare plutonium for other disposition alternatives evaluated in the SPD Supplemental EIS and to support the ongoing plutonium storage mission in K-Area. DOE also proposes to evaluate a new alternative to dispose of some surplus non-pit plutonium as transuranic waste at the Waste Isolation Pilot Plant (WIPP) in New Mexico, provided the plutonium would meet the criteria for such disposal. In addition, DOE will analyze the potential environmental impacts of using MOX fuel in up to five reactors owned by the Tennessee Valley Authority (TVA) at the Sequoyah (near Soddy-Daisy, TN) and Browns Ferry (near Decatur and Athens, AL) nuclear stations. TVA will be a cooperating agency with DOE for preparation and review of the sections of the SPD Supplemental EIS that address operation of TVA reactors.

DATES: DOE invites Federal agencies, state and local governments, Native American tribes, industry, other organizations, and members of the public to submit comments to assist in identifying environmental issues and in determining the scope of the SPD Supplemental EIS. The public scoping period will end on September 17, 2010. DOE will consider all comments received or postmarked by September 17, 2010. Comments received after that date will be considered to the extent practicable. Also, DOE asks that Federal, state, and local agencies that desire to be designated cooperating agencies on the SPD Supplemental EIS contact the National Environmental Policy Act (NEPA) Document Manager at the addresses listed under Addresses by the end of the scoping period. DOE will hold five public scoping meetings:

• August 3, 2010 (5:30 p.m. to 8 p.m.) at Calhoun Community College, Decatur Campus, Aerospace Building, 6250 Highway 31 North, Tanner, AL 35671

• August 5, 2010 (5:30 p.m. to 8 p.m.) at Chattanooga Convention Center, 1150 Carter Street, Chattanooga, TN 37402

• August 17, 2010 (5:30 p.m. to 8 p.m.) at North Augusta Municipal Center, 100 Georgia Avenue, North Augusta, SC 29841

• August 24, 2010 (5:30 p.m. to 8 p.m.) at Best Western Stevens Inn, 1829 S. Canal Street, Carlsbad, NM 88220

• August 26, 2010 (5:30 p.m. to 8 p.m.) at Courtyard by Marriott Santa Fe, 3347 Cerrillos Road, Santa Fe, NM 87507

ADDRESSES: Please direct written comments on the scope of the SPD Supplemental EIS to Ms. Sachiko McAlhany, SPD Supplemental EIS NEPA Document Manager, U.S. Department of Energy, P.O. Box 2324, Germantown, MD 20874-2324. You may also send comments on the scope of the SPD Supplemental EIS via e-mail to spdsupplementaleis@saic.com, or via the Web site, http://www.spdsupplementaleis.com; or by toll-free fax to 877-865-0277. DOE will give equal weight to written, e-mail, fax, and oral comments. Questions regarding the scoping process and requests to be placed on the distribution list for this Supplemental EIS should be directed to Ms. McAlhany by any of the means given above or by calling toll-free 877-344-0513.

For general information concerning the DOE NEPA process, contact: Carol Borgstrom, Director, Office of NEPA Policy and Compliance (GC-54), U.S. Department of Energy, 1000 Independence Avenue, SW, Washington, D.C. 20585-0103; telephone 202-586-4600, or leave a message at 1-800-472-2756; fax 202-586-7031; or send an e-mail to AskNEPA@hq.doe.gov. This Amended NOI will be available on the Internet at nepa.energy.gov.

SUPPLEMENTARY INFORMATION:

Background

To reduce the threat of nuclear weapons proliferation, DOE is engaged in a program to disposition its surplus, weapons-usable plutonium in a safe, secure, and environmentally sound manner by converting such plutonium into proliferation-resistant forms that can never again be readily used in nuclear weapons. The SPD Supplemental EIS will analyze the potential environmental impacts of reasonable alternatives ² to disposition approximately 7 metric tons (MT) ³ of additional plutonium from pits (“pit plutonium”; a pit is the core of a nuclear weapon) which were declared surplus to national defense needs after publication of the NOI and were not included in DOE's prior decisions. The SPD Supplemental EIS also will analyze reasonable disposition alternatives for approximately 6 MT ⁴ of non-pit plutonium. DOE also intends to evaluate the potential impacts associated with disposition of additional plutonium to account for the possibility that the United States may declare additional plutonium to be surplus in the future and, as analyzed in the Environmental Assessment for the U.S. Receipt and Storage of Gap Material—Plutonium (DOE/EA-1771, May 2010), small quantities of plutonium (totaling up to 100 kilograms) that the United States may accept from at-risk foreign locations as part of the Global Threat Reduction Initiative.

² The disposition alternatives to be analyzed in the SPD Supplemental EIS are not expected to change the type of material to be processed into MOX fuel or to change the annual throughput, annual environmental impacts, or the types of waste generated by the MFFF.

³ In 2007, the United States declared 9 MT of pit plutonium as surplus to U.S. defense needs. Approximately 2 MT are included in the 34 MT of surplus and future-declared surplus plutonium that DOE previously decided to fabricate into MOX fuel (68 FR 20134, April 24, 2003), leaving approximately 7 MT of additional surplus pit plutonium for disposition.

⁴ The 2007 NOI for the SPD Supplemental EIS stated that the scope would include up to 13 MT of surplus non-pit plutonium that DOE had previously planned to immobilize, although of that 13 MT, DOE had decided in 2003 to fabricate approximately 6.5 MT of this non-pit plutonium into MOX fuel (68 FR 20134, April 24, 2003). Since publication of the NOI in 2007, DOE has decided to disposition approximately 0.6 MT of non-pit plutonium via H-Canyon and the Defense Waste Processing Facility (see footnote 6). Thus, DOE now plans to analyze disposition options for approximately 6 MT of surplus non-pit plutonium.

The SPD Supplemental EIS will not reconsider decisions already made to disposition surplus plutonium, other than the decision discussed below to construct a stand-alone PDCF. DOE already has decided to fabricate 34 MT of surplus plutonium into MOX fuel in the MFFF (68 FR 20134, April 24, 2003), currently under construction at SRS, and to irradiate the MOX fuel in commercial nuclear reactors used to generate electricity, thereby rendering the plutonium into a spent fuel form not readily usable in nuclear weapons. DOE has set aside approximately 4 MT of surplus plutonium in the form of unirradiated reactor fuel for non-defense programmatic use (e.g., reactor fuels research and development) as explained in the 2007 NOI (72 FR 14543, March 28, 2007), and approximately 7 MT of surplus plutonium is contained in irradiated reactor fuel and, thus, already is in a proliferation-resistant form (see 65 FR 1608, January 11, 2000). Finally, DOE already has disposed of approximately 3 MT of surplus plutonium scrap and residues at WIPP as transuranic waste ⁵ and has decided to process approximately 0.6 MT at SRS through the H-Canyon, ultimately to be incorporated into vitrified high-level waste at the Defense Waste Processing Facility (DWPF).⁶

⁵ Disposal of certain plutonium scrap and residues at WIPP was undertaken pursuant to several records of decision (63 FR 66136, December 1, 1998; 64 FR 8068, February 18, 1999; 64 FR 47780, September 1, 1999; 66 FR 4803, January 18, 2001; 68 FR 44329, July 28, 2003).

⁶ The decisions to process approximately 0.6 MT of surplus non-pit plutonium through H-Canyon and DWPF are contained in two interim action determinations approved at SRS on December 8, 2008, and September 25, 2009.

Previously Completed NEPA Analyses and Decisions Made

In the Storage and Disposition of Weapons-Usable Fissile Materials Programmatic EIS (Storage and Disposition PEIS, DOE/EIS-0229, December 1996), DOE evaluated six candidate sites for plutonium disposition facilities and three categories of disposition technologies that would convert surplus plutonium into a form that would meet the Spent Fuel Standard.⁷ The three categories were: Deep Borehole Category (two options); Immobilization Category (three options); and Reactor Category (four options). DOE also analyzed a No Action Alternative. DOE selected a dual-path strategy for disposition that would allow immobilization of some or all of the surplus plutonium in glass or ceramic material for disposal in a geologic repository, and fabrication of some surplus plutonium into MOX fuel for irradiation in existing domestic commercial reactor(s), with subsequent disposal of the spent fuel in a geologic repository ⁸ (62 FR 3014, January 21, 1997). DOE also decided that an immobilization facility would be located either at the Hanford Site in Washington or at SRS.

⁷ Under that standard, the surplus weapons-usable plutonium should be made as inaccessible and unattractive for weapons use as the much larger and growing quantity of plutonium that exists in spent nuclear fuel from commercial power reactors.

⁸ DOE has since decided to terminate the program to develop a Yucca Mountain repository for geologic disposal of spent nuclear fuel and high-level waste. DOE has established a Blue Ribbon Commission on America's Nuclear Future (Blue Ribbon Commission) to develop and recommend alternative storage and disposal approaches for spent nuclear fuel and high-level waste. Notwithstanding termination of the Yucca Mountain program, DOE remains committed to meeting its obligations to manage and ultimately dispose of spent nuclear fuel and high-level waste. The Blue Ribbon Commission will conduct a comprehensive review of the back-end of the fuel cycle and evaluate alternative approaches for meeting these obligations. The Blue Ribbon Commission will provide the opportunity for a meaningful dialogue on how best to address this challenging issue and will provide recommendations to DOE for developing a safe, long-term solution to managing the Nation's spent nuclear fuel and high-level waste.

In November 1999, DOE issued the Surplus Plutonium Disposition EIS (SPD EIS, DOE/EIS-0283). The SPD EIS tiered from the Storage and Disposition PEIS and included an analysis of the potential environmental impacts associated with alternative technologies and sites to implement the dual-path plutonium disposition strategy. The SPD EIS also analyzed the impacts of using MOX fuel in certain domestic commercial reactors to generate electricity. In January 2000, DOE decided to construct and operate three disposition facilities at SRS: (1) the MFFF to fabricate up to 33 MT of surplus plutonium into MOX fuel ⁹; (2) a PDCF to disassemble nuclear weapons pits and convert the plutonium metal to an oxide form for use as feed material for the MFFF; and (3) an immobilization facility using ceramic can-in-canister technology that would allow for the immobilization of approximately 17 MT of surplus plutonium (65 FR 1608, January 11, 2000). Using the can-in-canister technology, DOE was to immobilize plutonium in a ceramic form, seal it in cans, and place the cans in canisters to be filled with borosilicate glass containing intensely radioactive high-level waste at DWPF.

⁹ In the 2000 Record of Decision (ROD), DOE noted that it had awarded a contract to Duke Engineering & Services, COGEMA Inc., and Stone & Webster (known as DCS) that included reactor irradiation of MOX fuel at Duke Energy's Catawba and McGuire Nuclear Stations. The SPD EIS and ROD also addressed two Virginia Power reactors at the North Anna Nuclear Station in Virginia. Virginia Power's involvement in the MOX program ended soon thereafter.

In 2002, DOE cancelled the immobilization portion of the plutonium disposition strategy (67 FR 19432, April 19, 2002). In 2003, DOE affirmed the MOX-only approach for plutonium disposition, in which 34 MT (increased from 33 MT) of surplus plutonium, including approximately 6.5 MT of the non-pit plutonium originally intended for immobilization, would be dispositioned by fabrication into MOX fuel for use in power reactors (68 FR 20134, April 24, 2003).

In 2005, DOE completed an Environmental Assessment for the Safeguards and Security Upgrades for Storage of Plutonium Materials at SRS (DOE/EA-1538, 2005) and issued a Finding of No Significant Impact. Among other things, this Environmental Assessment analyzed impacts associated with installation of a Container Surveillance and Storage Capability (CSSC) in an existing facility in K-Area at SRS. The CSSC capabilities are encompassed within what DOE refers to as the Plutonium Preparation Project (PuP). One phase of the PuP would provide stabilization and packaging capabilities, including direct metal oxidation, to fulfill plutonium storage requirements pursuant to DOE-STD-3013, Stabilization, Packaging, and Storage of Plutonium-Bearing Materials.

In 2007, DOE decided to consolidate surplus non-pit plutonium stored separately at the Hanford Site, the Los Alamos National Laboratory (LANL), and the Lawrence Livermore National Laboratory (LLNL) to a single storage location in K-Area at SRS, pending disposition (72 FR 51807, September 11, 2007). Shipments from Hanford have been completed, and shipments from LANL and LLNL to SRS for consolidated storage are continuing.

In 2008, DOE completed a supplement analysis (DOE/EIS-0283-SA-2) related to the treatment and solidification of certain liquid low-level radioactive waste and transuranic waste to be generated by the MFFF and PDCF. DOE decided to construct and operate a stand-alone waste solidification building in the F-Area at SRS (73 FR 75088, December 10, 2008); this facility is now under construction.

2007 Notice of Intent and Public Scoping Comments

On March 28, 2007, DOE issued an NOI (72 FR 14543) to prepare the SPD Supplemental EIS in order to evaluate the potential environmental impacts of disposition alternatives for up to approximately 13 MT of surplus, non-pit weapons-usable plutonium originally planned for immobilization. In the 2007 NOI, DOE stated that its preferred alternative was to construct and operate a new vitrification facility within an existing building at SRS to immobilize some of the surplus, non-pit plutonium, and to process some of the surplus, non-pit plutonium in the existing H-Canyon and DWPF at SRS. That NOI also explained that DOE would analyze the impacts of fabricating some (up to approximately one-third) of the surplus, non-pit plutonium into MOX fuel.

The original scoping period for the SPD Supplemental EIS began on March 28, 2007, and ended on May 29, 2007. Scoping meetings were held in Aiken, SC, and in Columbia, SC, on April 17 and 19, 2007, respectively. Some commentors favored the glass can-in-canister alternative for the entire surplus plutonium inventory, while others favored use of as much surplus plutonium as possible as feed material for the MFFF. One commentor asked that DOE identify the quantities of surplus plutonium by form and proposed disposition pathway. DOE will consider these comments, and others received during the upcoming scoping period, when preparing the Draft SPD Supplemental EIS.

Purpose and Need for Action

DOE's purpose and need remains, as stated in the SPD EIS, to reduce the threat of nuclear weapons proliferation worldwide by conducting disposition of surplus plutonium in the United States in an environmentally safe and timely manner. Comprehensive disposition actions are needed to ensure that surplus plutonium is converted into proliferation-resistant forms.

Proposed Action and Alternatives

In the SPD Supplemental EIS, DOE will analyze the potential environmental impacts of alternatives for the disposition of approximately 7 MT of surplus pit plutonium and approximately 6 MT of surplus non-pit plutonium. DOE also will analyze the impacts of irradiating MOX fuel in TVA reactors at the Sequoyah and Browns Ferry nuclear stations and will analyze options for the construction and operation of the PDCF and PuP capabilities at SRS. Brief descriptions of the alternatives DOE proposes to evaluate in the SPD Supplemental EIS are provided below.

• PDCF—DOE would construct and operate a stand-alone PDCF facility in F-Area at SRS to convert plutonium pits and other plutonium metal to an oxide form suitable for feed to the MFFF, as described in the SPD EIS and consistent with DOE's decision announced in the 2000 Record of Decision (ROD) for that EIS (65 FR 1608, January 11, 2000).

• PuP—DOE would install and operate the plutonium processing equipment required to store and prepare non-pit plutonium for disposition through any of the alternative pathways (MOX fuel, H-Canyon/DWPF, Glass Can-in-Canister, and WIPP). Differences in required capabilities for the alternatives will be evaluated in the SPD Supplemental EIS. The PuP project would be installed in K-Area at SRS.

• Combined PDCF/PuP Capability—DOE would install and operate a capability in K-Area at SRS necessary to perform the functions of both PDCF and PuP. The analysis will include reconfiguration of ongoing K-Area operations necessary to accommodate construction and operation of the combined capability.

• H-Canyon/DWPF—DOE would use the H-Canyon facility to process surplus non-pit plutonium for disposition. Plutonium materials would be dissolved, and the resulting plutonium-bearing solutions would be sent to a sludge batch feed tank and then to DWPF for vitrification. Within this alternative, DOE will analyze the potential environmental impacts of adding additional plutonium to the DWPF feed, which may increase the amount of plutonium in some DWPF canisters above historical levels.

• Glass Can-in-Canister—DOE would establish and operate a glass can-in-canister capability in K-Area at SRS. The analysis will assume that both surplus pit and non-pit plutonium would be vitrified within small cans, which would be placed in a rack inside a DWPF canister and surrounded with vitrified high-level waste. This alternative is similar to one evaluated in the SPD EIS, except that the capability would be installed in an existing rather than a new facility. Within this alternative DOE will analyze the potential environmental impacts of adding cans of vitrified plutonium to some of the DWPF canisters, which would increase the amount of plutonium in those DWPF canisters above historical levels.

• WIPP—DOE would establish and operate a capability to prepare and package non-pit plutonium using PuP (or the combined PDCF/PuP capability) and other existing facilities at SRS for disposal as transuranic waste at WIPP, provided that the material would meet the WIPP waste acceptance criteria. This alternative may include material that, because of its physical or chemical configuration or characteristics, could not be prepared for MFFF feed material.

• MOX Fuel—PDCF, PuP, or the combined PDCF/PuP capabilities would be used to prepare some surplus plutonium as feed for the MFFF, and the resultant MOX fuel would be irradiated in commercial nuclear reactors. The analysis will assume that all of the surplus pit and some of the surplus non-pit plutonium would be dispositioned in this manner.

• Reactor Operations—DOE will evaluate the impacts of construction of any reactor facility modifications ¹⁰ necessary to accommodate MOX fuel operation at five TVA reactors—the three boiling water reactors (BWRs) at Browns Ferry and the two pressurized water reactors (PWRs) at Sequoyah. DOE will evaluate the impacts of operation of these reactors using a core loading with the maximum technically and economically viable number of MOX fuel assemblies.

¹⁰ The SPD Supplemental EIS also will evaluate environmental impacts from potential minor modifications to the MFFF that may be needed to accommodate fabrication of TVA reactor MOX fuel.

DOE no longer proposes to evaluate in detail the ceramic can-in-canister alternative identified in the 2007 NOI for the SPD Supplemental EIS. In the SPD EIS, DOE identified no substantial differences between the ceramic can-in-canister and glass can-in-canister approaches in terms of expected environmental impacts to air quality, waste management, human health risk, facility accidents, facility resource requirements, intersite transportation, and environmental justice. DOE infrastructure and expertise associated with the ceramic technology has not substantially evolved or matured since 2003. In contrast, DOE has maintained research, development, and production infrastructure capabilities for glass waste forms. Therefore, DOE has decided that the glass can-in-canister technology is sufficiently representative of both technologies in terms of understanding potential environmental impacts and that the relative technical maturity of the glass can-in-canister approach gives it a greater chance of meeting DOE mission needs.

Potential Decisions

Since initiating the SPD Supplemental EIS process in 2007, DOE has continued to evaluate alternatives for disposition of surplus plutonium. DOE is evaluating the advantages and disadvantages of combining the PDCF and the PuP to accomplish the functions of both projects in an existing facility in K-Area at SRS. DOE will decide, based on programmatic, engineering, facility safety, cost, and schedule information, and the environmental impact analysis in the SPD Supplemental EIS, whether to implement the combined project in K-Area at SRS (PDCF/PuP) or to separately construct and operate PDCF in F-Area and PuP in K-Area at SRS.

DOE also will decide which alternatives to use for disposition of approximately 7 MT of surplus weapons-usable pit plutonium and approximately 6 MT of surplus weapons-usable non-pit plutonium for which DOE has not made a disposition decision.

DOE is evaluating alternatives for surplus non-pit plutonium that currently does not meet the specification for disposition through the MFFF. While this material could be immobilized for disposition using the glass can-in-canister alternative, DOE is evaluating three other alternative disposition paths: processing through H-Canyon and incorporation into vitrified high-level waste at DWPF; preparation for disposal at WIPP; and pretreatment to make the material suitable as feed for the MFFF.

In addition, the contract with Duke Energy Company to irradiate MOX fuel in four of its reactors terminated in late 2008. At present, DOE and TVA are evaluating use of MOX fuel in up to five TVA reactors at the Sequoyah and Browns Ferry nuclear stations, near Soddy-Daisy, TN, and Decatur and Athens, AL, respectively. DOE and TVA will determine whether to pursue irradiation of MOX fuel in TVA reactors and will determine which reactors to use initially for this purpose should DOE and TVA decide to use MOX fuel in TVA reactors.

Potential Environmental Issues for Analysis

DOE has tentatively identified the following environmental issues for analysis in the SPD Supplemental EIS. The list is presented to facilitate comment on the scope of the SPD Supplemental EIS and is not intended to be comprehensive or to predetermine the potential impacts to be analyzed.

• Impacts to the general population and workers from radiological and nonradiological releases, and other worker health and safety impacts.

• Impacts of emissions on air and water quality.

• Impacts on ecological systems and threatened and endangered species.

• Impacts from waste management activities, including from storage of DWPF canisters and transuranic waste pending disposal.

• Impacts from the transportation of radioactive materials, reactor fuel assemblies, and waste.

• Impacts of postulated accidents and from terrorist actions and sabotage.

• Potential disproportionately high and adverse effects on low-income and minority populations (environmental justice).

• Short-term and long-term land use impacts.

NEPA Process

Following the scoping period announced in this Amended Notice of Intent, and after consideration of comments received during scoping, DOE will prepare a Draft SPD Supplemental EIS. DOE will announce the availability of the Draft SPD Supplemental EIS in the Federal Register and local media outlets. Comments received on the Draft SPD Supplemental EIS will be considered and addressed in the Final SPD Supplemental EIS. DOE will issue a ROD no sooner than 30 days after publication by the Environmental Protection Agency of a Notice of Availability of the Final SPD Supplemental EIS.

Other Agency Involvement

The Tennessee Valley Authority will be a cooperating agency with DOE for preparation and review of the sections of the SPD Supplemental EIS that address operation of TVA reactors using MOX fuel assemblies. DOE invites Federal and non-Federal agencies with expertise in the subject matter of the SPD Supplemental EIS to contact the NEPA Document Manager (see ADDRESSES) if they wish to be a cooperating agency in the preparation of the SPD Supplemental EIS.

Issued in Washington, DC, on 13 July, 2010.
Thomas P. D'Agostino,
Administrator, National Nuclear Security Administration.

[FR Doc. 2010-17519 Filed 7-16-10; 8:45 am]

BILLING CODE 6450-01-P